Memorandum of June 26, 2022

Partnership for Global Infrastructure and Investment

Memorandum for the Heads of Executive Departments and Agencies

By the authority vested in me as President by the Constitution and the laws of the United States of America, and to establish my Administration's policy and approach to executing the Partnership for Global Infrastructure and Investment (PGII), it is hereby ordered as follows:

Section 1. Policy. Infrastructure is critical to driving a society's productivity and prosperity. When done well, infrastructure connects workers to good jobs; allows businesses to grow and thrive; facilitates the delivery of vital services; creates opportunities for all segments of society, including underserved communities; moves goods to markets; enables rapid information-sharing and communication; protects societies from the effects of climate change and public health crises or other emergencies; and supports global connection among nations. Infrastructure comes in many forms and sizes, from the large-scale energy systems that power inclusive economies, to the local healthcare networks that contribute to global health security, to the range of innovative infrastructure developed through investments from financial institutions and small- and medium-sized enterprises. My Administration is making an urgent, once-in-a-generation investment in domestic infrastructure that will create jobs, help address the climate crisis, and help the Nation recover from the coronavirus disease 2019 (COVID-19) pandemic—and the same focus is needed around the globe.

Internationally, infrastructure has long been underfunded, with over $40 trillion in estimated need in the developing world--a need that will only increase with the climate crisis and population growth. Many low- and middle-income countries lack adequate access to high-quality financing that meets their long-term infrastructure investment needs. Too often, financing options lack transparency, fuel corruption and poor governance, and create unsustainable debt burdens, often leading to projects that exploit, rather than empower, workers; exacerbate challenges faced by vulnerable populations, such as forced displacement; degrade natural resources and the environment; threaten economic stability; undermine gender equality and human rights; and put insufficient focus on cybersecurity best practices—a failure that can contribute to vulnerable information and communications technology networks.

The underinvestment in infrastructure is not just financial, but also technical. Delivering high-quality infrastructure in low- and middle-income countries must include helping to establish and improve the necessary institutional and policy frameworks, regulatory environment, and human capacity to ensure the sustainable delivery of services to communities; defining strong engineering, environmental, social, governance, and labor standards; and structuring projects to attract private investment. Through the PGII, the United States and like-minded partners will emphasize high-standards and quality investments in resilient infrastructure that will drive job creation, safeguard against corruption, guarantee respect for workers' organizations and collective bargaining as allowed by national law or similar mechanisms, support inclusive economic recovery, address risks of environmental degradation, promote robust cybersecurity, promote skills transfer, and protect American economic prosperity and national security. The PGII will also advance values-driven infrastructure development that is carried out in a transparent and sustainable manner—financially, environmentally, and socially—to lead to better outcomes for recipient countries and communities.

There is bipartisan support for international infrastructure development. The Congress passed the Better Utilization of Investments Leading to Development Act of 2018 (BUILD Act) (Division F of Public Law 115-254, 132 Stat. 3485) with bipartisan support to mobilize private-sector dollars to support economic development in low- and middle income countries, which can include support for projects to build infrastructure, creating first-time access to electricity, starting businesses, and creating jobs. The BUILD Act institutionalized the United States' commitment to private sector-funded development by establishing the United States International Development Finance Corporation (DFC), authorized a higher exposure cap for the DFC than the exposure cap for the former Overseas Private Investment Corporation, and provided new tools to engage entrepreneurs and investors to help low- and middle-income countries access private resources to generate economic growth. These investments help ensure that our partners are stronger, create opportunities for people around the world, and reduce the need for future United States foreign aid.

In a similar spirit, in 2018 the Congress passed the AGOA and MCA Modernization Act (Public Law 115-167, 132 Stat. 1276), authorizing the Millennium Challenge Corporation (MCC) to make concurrent regional compacts under specified conditions, which can include investments in regional infrastructure. This new authority builds on the MCC's record of delivering complex infrastructure projects that result in the delivery of vital services for communities and sustainable, inclusive economic growth. In addition, recognizing the need for access to high-quality, fair, and transparent financing for United States exporters and foreign buyers, the Congress also reauthorized the Export-Import Bank of the United States (EXIM) for 7 years in 2019. The EXIM's reauthorization legislation also took steps to advance American leadership in transformational exports, which can include support for goods and services necessary for open, secure, reliable, and interoperable information and communications technology.

The United States and its partners have a long history of providing high-quality financing and technical support for infrastructure projects throughout the world. However, the lack of a comprehensive approach for coordinating infrastructure investments with like-minded partners often leads to inefficiencies and missed opportunities for coordinated investments to deliver at scale. Greater flexibility, speed, and resources, combined with expanded internal coordination within the United States Government, will provide opportunities for the United States Government and United States companies to better meet the infrastructure needs of low- and middle-income countries around the world. At the same time, greater coordination with G7 and other like-minded partners will increase efficiency and catalyze new financing to advance a shared vision of values driven, high-quality, and sustainable infrastructure around the world.

Four key priorities relating to infrastructure will be especially critical for robust development in the coming decades: climate and energy security, digital connectivity, health and health security, and gender equality and equity. Economic prosperity and competitiveness will largely be driven by how well countries harness their digital and technology sectors and transition to clean energy to provide environmentally sustainable and broadly shared, inclusive growth for their people. Countries not only will need new and retrofitted infrastructure, secure clean energy supply chains, and secure access to critical minerals and metals to facilitate energy access and transitions to clean energy, but also will need significant investments in infrastructure to make communities more resilient to diverse threats, from pandemics to malicious cyber actors, to the increasing effects of climate change. Further, the COVID-19 pandemic has highlighted the unequal infrastructure needs in the developing world and has disproportionately affected low- and middle-income countries and regions, particularly with respect to the health sector. In the developing world, the pandemic has also set back the economic participation of women and members of underserved communities and has reversed decades of progress toward ending poverty, with global extreme poverty rising for the first time in more than 20 years due to COVID-19. The pandemic has highlighted the need for expanded investments in and high-quality financing for strengthened health systems to both fight the current pandemic and prepare for future health crises.

It is therefore the policy of the United States to catalyze international infrastructure financing and development through the PGII, which is designed to offer low- and middle-income countries a comprehensive, transparent, values-driven financing choice for infrastructure development to advance climate and energy security, digital connectivity, health and health security, and gender equality and equity priorities. The PGII will mobilize public and private resources to meet key infrastructure needs, while enhancing American competitiveness in international infrastructure development and creating good jobs at home and abroad. In this effort, the United States is working in close partnership with G7 and other like-minded partners toward infrastructure financing and infrastructure development that are sustainable, clean, resilient, inclusive, and transparent, and that adhere to high standards.

Sec. 2. Approach. In order to meet the enormous infrastructure needs in the developing world, a new approach to international infrastructure development that emphasizes high-standards investment is needed. To meet this challenge and seize this opportunity, the PGII should:

(a) partner with low- and middle-income countries to finance infrastructure across key sectors that advances the four key priorities critical to sustainable, inclusive growth: climate and energy security, digital connectivity, health and health security, and gender equality and equity;

(b) promote the execution of projects in a timely fashion in consultation and partnership with host countries and local stakeholders to meet their priority needs and opportunities, balancing both short- and longer-term priorities;

(c) pursue the dual goals of advancing prosperity and surmounting global challenges, including the climate crisis, through the development of clean, climate-resilient infrastructure that drives job creation, accelerates clean energy innovation, and supports inclusive economic recovery;

(d) support the policy and institutional reforms that are key to creating the conditions and capacity for sound projects and lasting results and to attracting private financing;

(e) boost the competitiveness of the United States by supporting businesses, including small- and medium-sized enterprises in overseas infrastructure and technology development, thereby creating jobs and economic growth here at home;

(f) advance transparency, accountability, and performance metrics to allow assessment of whether investments and projects deliver results and are responsive to country needs, are financially sound, and meet a high standard;

(g) mobilize private capital from both the United States private sector and the private sector in partner countries;

(h) build upon relationships with international financial institutions, including the multilateral development banks (MDBs), to mobilize capital;

(i) focus on projects that can attract complementary private-sector financing and catalyze additional market activity to multiply the positive impact on economies and communities;

(j) coordinate sources of bilateral and multilateral development finance to maximize the ability to meet infrastructure needs and facilitate the implementation of high standards for infrastructure investment;

(k) uphold high standards for infrastructure investments and procurement, which safeguard against bribery and other forms of corruption, better address climate risks and risks of environmental degradation, promote skills transfer, generate good jobs, mitigate risks to vulnerable populations, and promote long-term economic and social benefits for economies and communities; and

(l) align G7 and other like-minded partners to coordinate our respective approaches, investment criteria, expertise, and resources on infrastructure to advance a common vision and better meet the needs of low- and middle-income countries and regions.

Sec. 3. Execution. (a) A whole-of-government approach is necessary to meet the challenge of international infrastructure development, with executive departments and agencies (agencies) working together with like minded partners. The Special Presidential Coordinator for the Partnership for Global Infrastructure and Investment shall be responsible for overseeing the whole-of-government execution of these efforts and serving as the central node for United States coordination among the G7, as well as with other like-minded partners, the private sector, and other external actors. While specific lines of effort and initiatives may each have agency leads, such as on sourcing critical minerals or identifying trusted 5G and 6G vendors, whole-of-government policies should be addressed through the Coordinator.

(b) Agencies shall, consistent with applicable law and available appropriations, prioritize support for the PGII and make strategic investments across the PGII's key priorities of climate and energy security, digital connectivity, health and health security, and gender equality and equity.

(c) The PGII shall be executed through the following key implementation efforts:

(i) The Assistant to the President for National Security Affairs (APNSA), through the interagency process identified in National Security Memorandum 2 of February 4, 2021 (Renewing the National Security Council System) (NSM-2), shall submit a report to the President within 180 days of the date of this memorandum. The report shall include recommendations on United States Government actions to boost the competitiveness of the United States in international infrastructure development, and to improve coordination on international infrastructure development across relevant agencies.

(ii) The Secretary of State, the Secretary of the Treasury, the Secretary of the Interior, the Secretary of Commerce, the Secretary of Labor, the Secretary of Health and Human Services, the Secretary of Transportation, the Secretary of Energy, the Administrator of the United States Agency for International Development (USAID), and the heads of other relevant agencies shall prioritize programming consistent with the policy and approach described in sections 1 and 2 of this memorandum to support timely delivery of international infrastructure development, particularly across the PGII's four key priorities, as appropriate and consistent with their respective authorities. The Chief Executive Officer (CEO) of MCC, the CEO of DFC, the President of EXIM, the Director of the Trade and Development Agency (TDA), and the heads of other relevant independent agencies are encouraged to follow this same line of effort, as appropriate and consistent with their respective authorities.

(iii) The Secretary of State shall direct Chiefs of Mission to use all appropriate tools and to develop coordination mechanisms--including through Embassy Deal Teams--to address host country strategic infrastructure needs within the PGII's four key priority areas.

(iv) The Secretary of State and the Secretary of Commerce, in consultation with the Secretary of Health and Human Services, the Secretary of Energy, the Administrator of USAID, the CEO of MCC, the CEO of DFC, the President of EXIM, and the Special Presidential Coordinator, shall develop a strategy for using Embassy Deal Teams to identify potential priority infrastructure projects for the PGII and refer promising opportunities to relevant agencies for consideration, based on each agency's strengths and authorities.

(v) The Secretary of State, through the Special Presidential Coordinator and in consultation with the heads of other relevant agencies, shall coordinate diplomatic engagements to expand the PGII beyond the G7 to bring greater resources and opportunities for partnership.

(vi) The Secretary of State, through the Special Presidential Coordinator and in consultation with the Secretary of the Treasury, the Secretary of Commerce, the Secretary of Labor, the Secretary of Health and Human Services, the Secretary of Transportation, the Administrator of the Environmental Protection Agency, the Administrator of USAID, the CEO of MCC, and the CEO of DFC, shall lead interagency efforts regarding international coordination on infrastructure development standards and metrics, including on labor and environment, and certification mechanisms, including through the Blue Dot Network.

(vii) The Secretary of Commerce, in consultation with the Administrator of the Small Business Administration, the President of EXIM, the Director of TDA, and the Special Presidential Coordinator, shall develop and implement a strategy to boost the competitiveness of the United States and promote the use of United States equipment and services in international infrastructure development.

(viii) The Secretary of the Treasury, in consultation with the Secretary of State, the CEO of MCC, the CEO of DFC, and the Special Presidential Coordinator, shall develop and implement a strategy to catalyze private-sector investment and support low- and middle-income countries across the PGII's four key priority areas.

(ix) The Secretary of the Treasury, in consultation with the Secretary of State, the Secretary of Commerce, the Secretary of Health and Human Services, the Administrator of USAID, and the Special Presidential Coordinator shall develop a plan for engaging the MDBs to foster high-quality infrastructure investment and increased private-capital mobilization for low- and middle-income countries, and shall coordinate with like-minded partners in the plan's execution. The CEO of DFC, in consultation with the Secretary of State, the Secretary of the Treasury, the Administrator of USAID, and the Special Presidential Coordinator, is encouraged to develop a plan to enhance engagement with national and international development finance institutions to increase private-capital mobilization.

(x) The Secretary of Transportation, in consultation with the heads of other relevant agencies, shall develop and implement a strategy to promote high-quality, sustainable, and resilient transportation infrastructure in low- and middle-income countries, including through the launch of a comprehensive toolkit for national, subnational, and multilateral partners that emphasizes best practices in planning, finance, project delivery, safety, and maintenance.

(xi) The APNSA, through the interagency process identified in NSM-2 and in coordination with the Director of the Office of Management and Budget, shall identify potential legislative and administrative actions that could improve the ability of United States economic development and assistance, development finance, and export credit tools to meet international infrastructure development needs.

(xii) The APNSA, through the interagency process identified in NSM-2, shall lead biannual reviews to monitor the progress, metrics, and outcomes of the PGII's investments and projects; identify strategic opportunities across the PGII's four key priorities; and ensure that the execution of the PGII aligns with, and supports, broader strategic United States national security and economic objectives and values, including by supporting United States companies in international infrastructure development.

Sec. 4. Definition. For purposes of this memorandum, “agency” means any authority of the United States that is an “agency” under 44 U.S.C. 3502(1), other than one considered to be an independent regulatory agency, as defined in 44 U.S.C. 3502(5). “Agency” also means any component of the Executive Office of the President.

Sec. 5. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Secretary of State is authorized and directed to publish this memorandum in the Federal Register.

THE WHITE HOUSE,

Washington, June 26, 2022

[FR Doc. 2022-14198

Filed 6-29-22; 11:15 am]

Billing code 4710-10-P